INTERNATIONAL TRADE COMMISSION

[Investigation Nos. 701-TA-607 and 731-TA-1417 and 1419 (Final)]

Steel Propane Cylinders From China and Thailand Revised Scheduling of the Final Phase of Countervailing Duty and Anti-Dumping Duty Investigations

AGENCY: United States International Trade Commission.

ACTION: Notice.

DATES: April 19, 2019.

FOR FURTHER INFORMATION CONTACT: Abu B. Kanu (202-205-2597), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On January 30, 2019, the Commission established a schedule to conduct of the final phase of these investigations (84 FR 9135, March 13, 2019). The Commission is revising its schedule.

The Commission's revised dates in the schedule are as follows: The prehearing conference will be held at the U.S. International Trade Commission Building on June 3, 2019, if deemed necessary; the prehearing staff report will be placed in the nonpublic record on May 22, 2019; the deadline for filing prehearing briefs is May 30, 2019; the hearing will be held at the U.S. International Trade Commission Building at 9:30 a.m. on June 5, 2019.

For further information concerning this proceeding see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.62 of the Commission's rules.

By order of the Commission.
Issued: April 23, 2019.
Lisa Barton,
Secretary to the Commission.

[FR Doc. 2019-08527 Filed 4-26-19; 8:45 am]

BILLING CODE 7020-02-P